DEPARTMENT OF ENERGY

Federal Energy Regulatory Commission

Notice of Application Ready for Environmental Analysis and Soliciting Comments, Recommendations, Terms and Conditions, and Prescriptions

October 31, 2000.

Take notice that the following hydroelectric license application has been filed with the Commission and is available for public inspection:

a. Type of Application: New Major License.

b. Project No.: 1895-007.

c. Date filed: June 29, 1998.

d. Applicant: South Carolina Electric and Gas Company.

e. Name of Project: Columbia Hydroelectric Project.

f. Location: On the Broad River and Congaree River in the City of Columbia and Richland County, South Carolina. The project occupies no federal lands.

g. Filed Pursuant to: Federal Power Act, 15 U.S.C. 791(a)-825(r).

h. Applicant Contact: Kristina Massey, Senior Engineer, South Carolina Electric & Gas Company, 111 Research Drive, Columbia, SC 29203, telephone (803) 217-9198.

i. FERC Contact: Any questions on this notice should be addressed to Charles R. Hall, telephone (202) 219-2853, or E-mail address chales.hall@ferc.fed.us.

j. Deadline for filing comments, recommendations, terms and conditions, and prescriptions: 60 days from the issuance date of this notice. All documents (original and eight copies) should be filed with David P. Boergers, Secretary, Federal Energy Regulatory Commission, 888 First Street, NE, Washington, DC 20426. The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. Beginning November 1, 2000, comments and protests may be filed electronically via the internet in lieu of paper. See, 18 CFR 385.2001(a)(1)(iii) and the instructions on the Commission's web site at http://www.ferc.fed.us/efi/doorbell/htm.

k. This application has been accepted, and is now ready for environmental analysis.

l. The project consists of the following existing facilities: (1) a 1,021-foot-long, 14-foot-high timber crib diversion dam; (2) a 265-acre reservoir in the Broad River upstream from the diversion dam; (3) an 85-acre, 10-foot-wide, 3.5-mile canal; (4) a 210-foot-long, granite-block masonry canal intake structure, containing 12 manually operated vertical lift gates to control the flow of water into the canal; (5) a granite-block masonry canal spillway containing two 12-foot-wide Taintor gates separated by a 208-foot-long stoplog section; (6) a granite-block and brick masonry powerhouse, containing seven turbin-generator units with a total installed capacity of 10,600 kilowatts, and other appurtenances. The project is estimated to generate an average of 48 million kilowatthours (kWh) annually. The dam and existing project facilities are owned by the applicant.

m. A copy of the application is available for inspection and reproduction at the Commission's Public Reference Room, located at 888 First Street, NE, Room 2-A, Washington, DC 20426, or by calling (202) 208-1371. The application may be viewed on http://www.ferc.fed.us/online/rims.htm (call (202) 208-2222 for assistance). A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice. Anyone may obtain an extension of time for these deadlines from the Commission only upon a showing of good cause or extraordinary circumstances in accordance with 18 CFR 385.2008.

o. All filings must (1) bear in all capital letter the title “COMMENTS”, “REPLY COMMENTS,” “RECOMMENDATIONS,” “TERMS AND CONDITIONS,” or “PRESCRIPTIONS;” (2) set forth in the heading the name of the applicant and the project number of the application to which the filing responds; (3) furnish the name, address, and telephone number of the person submitting the filing: and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

David P. Boergers,
Secretary.

[FR Doc. 00-28381 Filed 11-3-00; 8:45 am]

BILLING CODE 6717-01-M